DEPARTMENT OF DEFENSE

48 CFR Part 235

[DFARS Case 2001-D002]

Defense Federal Acquisition Regulation Supplement; Research and Development Streamlined Contracting Procedures

AGENCY: Department of Defense (DoD).

ACTION: Proposed rule with request for comments.

SUMMARY: DoD is proposing to amend the Defense Federal Acquisition Regulation Supplement (DFARS) to eliminate the requirement for posting of solicitations at the research and development streamlined solicitation website. Instead, each contracting activity will use its own procedures for electronic posting of research and development streamlined solicitations. Contracting activities will continue to make synopses and solicitations available through the Governmentwide point of entry (FedBizOpps).

DATES: Comments on the proposed rule should be submitted in writing to the address shown below on or before February 4, 2002, to be considered in the formation of the final rule.

ADDRESSES: Respondents may submit comments directly on the World Wide Web at http://emissary.acq.osd.mil/dar/dfars.nsf/pubcomm. As an alternative, respondents may e-mail comments to: dfars@acq.osd.mil. Please cite DFARS Case 2001-D002 in the subject line of e-mailed comments.

Respondents that cannot submit comments using either of the above methods may submit comments to: Defense Acquisition Regulations Council, Attn: Ms. Angelena Moy, OUSD(AT&L)DP(DAR), IMD 3C132, 3062 Defense Pentagon, Washington, DC 20301-3062; facsimile (703) 602-0350. Please cite DFARS Case 2001-D002.

At the end of the comment period, interested parties may view public comments on the World Wide Web at http://emissary.acq.osd.mil/dar/dfars.nsf.

FOR FURTHER INFORMATION CONTACT: Ms. Angelena Moy, (703) 602-1302.

SUPPLEMENTARY INFORMATION:

A. Background

DFARS Subpart 235.70 contains streamlined procedures for acquiring research and development using a standard solicitation and contract format. The standard format is available on the research and development streamlined solicitation (RDSS) website at http://www/rdss.osd.mil. DFARS 235.7003-2 presently requires that each solicitation issued in the standard format be posted at the RDSS website. This proposed rule eliminates the requirement for contracting activities to post their solicitations at the RDSS website, to permit each activity to use its own procedures for electronic posting of solicitations. However, contracting activities will continue to make synopses and solicitations available through the Governmentwide point of entry (FedBizOpps) in accordance with FAR 5.102 and 5.203.

This rule was not subject to Office of Management and Budget review under Executive Order 12866, dated September 30, 1993.

B. Regulatory Flexibility Act

The proposed rule is not expected to have a significant economic impact on a substantial number of small entities within the meaning of the Regulatory Flexibility Act, 5 U.S.C. 601, et seq., because the rule does not significantly change solicitation procedures or limit public access to solicitation information. Therefore, DoD has not performed an initial regulatory flexibility analysis. DoD invites comments from small businesses and other interested parties. DoD also will consider comments from small entities concerning the affected DFARS subpart in accordance with 5 U.S.C. 610. Such comments should be submitted separately and should cite DFARS Case 2001-D002.

C. Paperwork Reduction Act

The Paperwork Reduction Act does not apply because the rule does not impose any information collection requirements that require the approval of the Office of Management and Budget under 44 U.S.C. 3501, et seq.

List of Subjects in 48 CFR Part 235

Government procurement.

Michele P. Peterson,
Executive Editor, Defense Acquisition Regulations Council.

Therefore, DoD proposes to amend 48 CFR part 235 as follows:

1. The authority citation for 48 CFR part 235 continues to read as follows:

Authority: 41 U.S.C. 421 and 48 CFR Chapter 1.

PART 235—RESEARCH AND DEVELOPMENT CONTRACTING

2. Section 235.7003-2 is revised to read as follows:

235.7003-2 RDSS process.

(a) Synopsis. The synopsis required by FAR 5.203 must include—

(1) The information required by FAR 5.207; and

(2) A statement that the solicitation will be issued in the research and development streamlined solicitation format shown at the RDSS/C website.

(b) Solicitation.

(1) The solicitation, to be made available consistent with the requirements of FAR 5.102—

(i) Must be in the format shown at the RDSS/C website;

(ii) Must include the applicable version number of the RDSS standard format; and

(iii) Must incorporate by reference the appropriate terms and conditions of the RDSS standard format.

(2) To encourage preparation of better cost proposals, consider allowing a delay between the due dates for technical and cost proposals.

[FR Doc. 01-30261 Filed 12-5-01; 8:45 am]

BILLING CODE 5000-04-U